DEPARTMENT OF LABOR

Employment and Training Administration

[NAFTA—02738A]

Talon, Inc., Division of Coats North America, Lake City, SC; Including Temporary Workers of Will Staff Personnel Services, Greenville, SC; Amended Certification Regarding Eligibility To Apply for NAFTA-Transitional Adjustment Assistance

In accordance with Section 250(a), Subchapter D, Chapter 2, title II, of the Trade Act of 1974 (19 USC 2273), the Department of Labor issued a Certification for NAFTA Transitional Adjustment Assistance on December 11, 1998, applicable to workers of Talon, Inc., Division of Coats North America, Lake City, South Carolina. The notice was published in the Federal Register on December 23, 1998 (63 FR 71166).

At the request of the States agency, the Department reviewed the certification for workers of the subject firm. New information provided by the State shows that some workers separated from employment at Talon, Inc. had their wages reported under a separate unemployment insurance (UI) tax account at Will Staff Personnel Services. Workers from Will Staff Personnel Services produced zippers at the Lake City, South Carolina location of Talon, Inc.

Based on these findings, the Department is amending the certification to include workers from Will Staff Personnel Services, Greenville, South Carolina who were engaged in the production of zippers at Talon, Inc., Lake City, South Carolina.

The intent of the Department's certification is to include all workers of Talon, Inc, Division of Coats North America adversely affected by the shift of production to Mexico.

The amended notice applicable to NAFTA—02738A is hereby issued as follows:

“All workers of Talon, Inc., Division of Coats North America, Lake City, South Carolina (NAFTA—2738A), including temporary workers of Will Staff Personnel Services, Greenville, South Carolina, engaged in employment related to the production of zippers for Talon, Inc., Division of Coats North America, Lake City, South Carolina who became totally or partially separated from employment on or after November 16, 1997 through December 11, 2000 are eligible to apply for NAFTA-TAA under Section 250 of the Trade Act of 1974.

Signed at Washington, D.C. this 27th day of April, 2000.
Grant D. Beale,
Program Manager, Office of Trade Adjustment Assistance.

[FR Doc. 00-11117 Filed 5-3-00; 8:45 am]

BILLING CODE 4510-30-M